Title 3—

The President

Proclamation 9463 of June 16, 2016

National Week of Making, 2016

By the President of the United States of America

A Proclamation

The same American spirit of innovation and entrepreneurship that has steered our Nation through the industrial and digital revolutions—and led our people to explore the depths of the oceans and the distant planets in our solar system—has enabled us to reimagine our world through new ideas and discoveries. Since our earliest days, makers, artists, and inventors have driven our economy and transformed how we live by taking risks, collaborating, and drawing on their talents and imaginations to make our Nation more dynamic and interconnected. During National Week of Making, we recommit to sparking the creative confidence of all Americans and to giving them the skills, mentors, and resources they need to harness their passion and tackle some of our planet's greatest challenges.

Today, Americans of all ages have the ability to connect and showcase their creativity through a growing maker movement. Technologies like 3D printing and desktop machine tools are rapidly lowering the costs of production; additional sources of capital such as crowdfunding are reducing barriers to getting started; and the democratization of technology is empowering more makers, helping to boost entrepreneurship and stimulate American manufacturing. Over the last 6 years, we have added over 800,000 manufacturing jobs and introduced next-generation manufacturing hubs. Just as the personal computer and the Internet transformed our Nation over the last several decades, these new opportunities can inspire the next generation of students, innovators, and entrepreneurs to carry forward our legacy of ingenuity.

In 2014, I launched the Nation of Makers initiative to ensure more Americans of all ages and backgrounds have greater opportunities to design, build, and manufacture. My Administration is taking steps to foster “maker mindsets” by promoting skills like creative problem-solving, and to support the development of collaborative maker spaces so aspiring makers and manufacturers can turn their bold ideas into realities. I am proud that so many people across our country have already joined in this effort. Mayors have hosted maker roundtables and town halls; Federal agencies have worked with schools, libraries, recreation centers, and museums to create maker spaces, curricula, and tools to help students learn the design process; and private businesses and other local collaborators have empowered individuals with the entrepreneurial resources and skills they need to launch companies and sell their products.

Together we must continue to expand opportunity for generations to come by working to eliminate the digital divide and reduce existing skill and confidence gaps. We must prepare young people for the jobs of the future by equipping them with the analytical skills needed to solve problems and the computer science and hardware development skills required to power our innovation economy. It is critical that we support the types of hands-on science, technology, engineering, and math (STEM) learning experiences—in both formal and informal environments—that students encounter through making, which can help unlock their full potential and ignite their enthusiasm for the careers of tomorrow. That is why we are prioritizing investment in STEM teaching and active learning, expanding access to rigorous STEM courses like computer science, encouraging more opportunities in communities of greatest need, and working to get underrepresented students, including women and minorities, involved to increase diversity in STEM fields.

Across our country, Americans are attending all types of maker events and workshops—from studios in small towns to the streets of our Nation's capital—to share their incredible inventions and ideas with others and to inspire all of us to join in the creative process. As we celebrate the power of American ingenuity, I invite communities to build on this progress by encouraging citizens to be creators and by working together to ensure that spaces for making are available anywhere Americans live, work, play, and learn. This week, let us turn today's sketches and dreams into tomorrow's “Made in America” labels, and let us embrace the audacious spirit of human curiosity that is embedded in our DNA.

NOW, THEREFORE, I, BARACK OBAMA, President of the United States of America, by virtue of the authority vested in me by the Constitution and the laws of the United States, do hereby proclaim June 17 through June 23, 2016, as National Week of Making. I call upon all Americans to observe this week with programs, ceremonies, celebrations, and activities that encourage a new generation of makers and manufacturers to share their talents, solutions, and skills.

IN WITNESS WHEREOF, I have hereunto set my hand this sixteenth day of June, in the year of our Lord two thousand sixteen, and of the Independence of the United States of America the two hundred and fortieth.

[FR Doc. 2016-14844

Filed 6-20-16; 11:15 am]

Billing code 3295-F6-P